DEPARTMENT OF TRANSPORTATION

Federal Aviation Administration

14 CFR Part 39

[Docket No. FAA-2024-1304; Project Identifier MCAI-2023-01134-T; Amendment 39-22822; AD 2024-16-16]

RIN 2120-AA64

Airworthiness Directives; Embraer S.A. Airplanes

AGENCY: Federal Aviation Administration (FAA), DOT.

ACTION: Final rule.

SUMMARY: The FAA is superseding Airworthiness Directive (AD) 2020-25-07, which applied to certain Embraer S.A. Model EMB-550 and EMB-545 airplanes. AD 2020-25-07 required repetitive inspections of the flight deck side windows for any cracking or delamination, corrective action if necessary, and eventual replacement of the windows. Since the FAA issued AD 2020-25-07, additional part numbers were added to the installation prohibition list. This AD continues to require the actions in AD 2020-25-07, expands the list of affected parts, and prohibits the installation of affected parts, as specified in an Agência Nacional de Aviação Civil (ANAC) AD, which is incorporated by reference. The FAA is issuing this AD to address the unsafe condition on these products.

DATES: This AD is effective October 30, 2024.

The Director of the Federal Register approved the incorporation by reference of a certain publication listed in this AD as of October 30, 2024.

ADDRESSES:

AD Docket: You may examine the AD docket at regulations.gov under Docket No. FAA-2024-1304; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For ANAC material identified in this AD, contact National Civil Aviation Agency (ANAC), Aeronautical Products Certification Branch (GGCP), Rua Dr. Orlando Feirabend Filho, 230—Centro Empresarial Aquarius—Torre B—Andares 14 a 18, Parque Residencial Aquarius, CEP 12.246-190—São José dos Campos—SP, Brazil; telephone 55 (12) 3203-6600; email pac@anac.gov.br; website anac.gov.br/en/. You may find this material on the ANAC website sistemas.anac.gov.br/certificacao/DA/DAE.asp.

• You may view this material at the FAA, Airworthiness Products Section, Operational Safety Branch, 2200 South 216th Street, Des Moines, WA. For information on the availability of this material at the FAA, call 206-231-3195. It is also available at regulations.gov under Docket No. FAA-2024-1304.

FOR FURTHER INFORMATION CONTACT: Hassan Ibrahim, Aviation Safety Engineer, FAA, 1600 Stewart Avenue, Suite 410, Westbury, NY 11590; telephone 206-231-3653; email Hassan.M.Ibrahim@faa.gov.

SUPPLEMENTARY INFORMATION:

Background

The FAA issued a notice of proposed rulemaking (NPRM) to amend 14 CFR part 39 to supersede AD 2020-25-07, Amendment 39-21349 (85 FR 81385, December 16, 2020) (AD 2020-25-07). AD 2020-25-07 applied to certain Embraer S.A. Model EMB-550 and EMB-545 airplanes. AD 2020-25-07 required repetitive inspections of the flight deck side windows for any cracking or delamination, corrective action if necessary, and eventual replacement of the windows. The FAA issued AD 2020-25-07 to address cracks and delamination, which could cause the flight deck side windows to fail and lead to an in-flight depressurization event.

The NPRM published in the Federal Register on May 17, 2024 (89 FR 43336). The NPRM was prompted by AD 2020-04-01R02, effective November 2, 2023, issued by ANAC, which is the aviation authority for Brazil (ANAC AD 2020-04-01R02) (also referred to as the MCAI). The MCAI states that part number (P/N) NP-200402-7 and P/N NP-200402-8, made mandatory by the previous revisions of the MCAI, have not had the expected effect on the fleet as premature cracks in the outer layer of windows with P/N NP-200402-7 and P/N NP-200402-8 have been found. These cracks may be undetected, and the inner layer may be subjected to unpredicted loads for several flights, which could result in window failure and subsequent in-flight depressurization events.

In the NPRM, the FAA proposed to continue to require the actions in AD 2020-25-07, expand the list of affected parts, and prohibit the installation of affected parts, as specified in ANAC AD 2020-04-01R02. The FAA is issuing this AD to address the unsafe condition on these products.

You may examine the MCAI in the AD docket at regulations.gov under Docket No. FAA-2024-1304.

Discussion of Final Airworthiness Directive

Comments

The FAA received no comments on the NPRM or on the determination of the cost to the public.

Additional Changes Made to This AD

The FAA revised paragraph (h)(5) of this AD to clarify that the 50 flight cycle grace period is “within 50 flight cycles after the effective date of this AD.” In the proposed AD, the FAA inadvertently omitted the wording “after the effective date of this AD.”

After the FAA issued the proposed AD, ANAC issued an Errata to ANAC AD 2020-04-01R02, effective November 2, 2023, to clarify the actions if an inspection is done and delamination or other damage which does not impact the ability to properly perform the inspection is found. As originally written, operators could have concluded a windshield needed to be replaced even if the only inspection finding was delamination in an area that did not impede the inspection. The FAA has revised paragraph (h)(3) of this AD to clarify the action for this condition.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

ANAC AD 2020-04-01R02 specifies procedures for initial and repetitive detailed inspections of the left-hand flight deck side window P/N NP-200402-1 or P/N NP-200402-5 and right-hand flight deck side window P/N NP-200402-2 or P/N NP-200402-6 to detect cracks, delamination, or any other damage (such as scratches, chipping, erosion, and crazing), and replacement of the windows with a new window P/N NP-200402-9 or P/N NP-200402-10, as applicable. ANAC AD 2020-04-01R02 also prohibits the installation of flight deck side windows with P/N NP-200402-1, P/N NP-200402-2, P/N NP-200402-5, P/N NP-200402-6, P/N NP-200402-7, and P/N NP-200402-8, on any airplane.

This material is reasonably available because the interested parties have access to it through their normal course of business or by the means identified in the ADDRESSES section.

Costs of Compliance

The FAA estimates that this AD affects 44 airplanes of U.S. registry. The FAA estimates the following costs to comply with this AD:

Estimated Costs for Required Actions
Action | Labor cost | Parts cost | Cost per product | Cost on U.S. operators
Retained actions from AD 2020-25-07 | 1 work-hour × $85 per hour = $85 per inspection cycle | $0 | $85 per inspection cycle | $3,740 per inspection cycle.

The FAA estimates the following costs to do any necessary on-condition action that would be required based on the results of any required actions. The FAA has no way of determining the number of aircraft that might need this on-condition action:

Estimated Costs of On-Condition Actions
Labor cost | Parts cost | Cost per window
15 work-hours × $85 per hour = $1,275 | $21,636 | $22,911

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2020-25-07, Amendment 39-21349 (85 FR 81385, December 16, 2020); and

b. Adding the following new Airworthiness Directive:

2024-16-16 Embraer S.A.: Amendment 39-22822; Docket No. FAA-2024-1304; Project Identifier MCAI-2023-01134-T.

(a) Effective Date

This airworthiness directive (AD) is effective October 30, 2024.

(b) Affected ADs

This AD replaces AD 2020-25-07, Amendment 39-21349 (85 FR 81385, December 16, 2020) (AD 2020-25-07).

(c) Applicability

This AD applies to Embraer S.A. Model EMB-550 and EMB-545 airplanes, certificated in any category, as identified in Agência Nacional de Aviação Civil (ANAC) AD 2020-04-01R02, effective November 2, 2023 (ANAC AD 2020-04-01R02).

(d) Subject

Air Transport Association (ATA) of America Code 56, Windows.

(e) Unsafe Condition

This AD was prompted by reports of cracks, delamination, and failure of the flight deck side windows during certification fatigue tests. The FAA is issuing this AD to address such cracks and delamination, and any other damage of the flight deck side windows. The unsafe condition, if not addressed, could result in flight deck side windows to fail and lead to an in-flight depressurization event.

(f) Compliance

Comply with this AD within the compliance times specified, unless already done.

(g) Requirements

Except as specified in paragraph (h) of this AD: Comply with all required actions and compliance times specified in, and in accordance with, ANAC AD 2020-04-01R02.

(h) Exceptions to ANAC AD 2020-04-01R02

(1) Where ANAC AD 2020-04-01R02 refers to its effective date, this AD requires using the effective date of this AD.

(2) Where paragraph (b)(1) of ANAC AD 2020-04-01R02 refers to April 17, 2020 (the effective date of the original issue of ANAC AD 2020-04-01), this AD requires using January 21, 2021 (the effective date of AD 2020-25-07).

(3) Where paragraph (b)(1)(iii) of ANAC AD 2020-04-01R02 specifies “In case of no crack, delamination, or any other damage, no action is required at this time,” this AD requires replacing that text with “in the case of no findings specified in paragraphs (b)(1)(i) and (ii) of ANAC AD 2020-04-01R02, no further action is required by this AD until the next inspection interval.”

(4) Where paragraph (b)(2) of ANAC AD 2020-04-01R02 refers to the compliance time of the repetitive inspections, “at each 750 Flight Hours (FH),” this AD requires replacing that text with “at intervals not to exceed 750 flight hours.”

(5) Where paragraph (c) of ANAC AD 2020-04-01R02 refers to the compliance time for the replacement of the flight deck side windows as, “before the airplane logs 3,400 Flight Cycles Since New (FCSN),” this AD requires replacing that text with “before the airplane logs 3,400 FCSN, or within 50 flight cycles after the effective date of this AD, whichever occurs later.”

(6) Replacement of the flight deck side windows as specified in paragraph (c) of ANAC AD 2020-04-01R02 terminates the repetitive inspections for the flight deck side windows specified in paragraph (b)(2) of ANAC AD 2020-04-01R02.

(7) This AD does not adopt paragraph (e) of ANAC AD 2020-04-01R02.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or ANAC; or ANAC's authorized Designee. If approved by the ANAC Designee, the approval must include the Designee's authorized signature.

(j) Additional Information

For more information about this AD, contact Hassan Ibrahim, Aviation Safety Engineer, FAA, 1600 Stewart Avenue, Suite 410, Westbury, NY 11590; telephone 206-231-3653; email Hassan.M.Ibrahim@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) Agência Nacional de Aviação Civil (ANAC) AD 2020-04-01R02, effective November 2, 2023.

(ii) [Reserved]

(3) For ANAC material identified in this AD, contact ANAC, Aeronautical Products Certification Branch (GGCP), Rua Dr. Orlando Feirabend Filho, 230-Centro Empresarial Aquarius-Torre B-Andares 14 a 18, Parque Residencial Aquarius, CEP 12.246-190-São José dos Campos-SP, Brazil; telephone 55 (12) 3203-6600; email pac@anac.gov.br; website anac.gov.br/en/. You may find this ANAC AD on the ANAC website at sistemas.anac.gov.br/certificacao/DA/DAE.asp.

(4) You may view this material at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locationsoremailfr.inspection@nara.gov.

Issued on September 19, 2024.
Victor Wicklund,
Deputy Director, Compliance & Airworthiness Division, Aircraft Certification Service.

[FR Doc. 2024-21853 Filed 9-24-24; 8:45 am]

BILLING CODE 4910-13-P